NUCLEAR REGULATORY COMMISSION

Advisory Committee on Reactor Safeguards; Revised Meeting Notice

The agenda for the 531st ACRS meeting, scheduled to be held on April 5-8, 2006, has been revised as noted below. Notice of this meeting was previously published in the Federal Register on Thursday, March 23, 2006 (71 FR 14724).

The discussion of the topic on the Application of the TRACG Code for ESBWR Stability scheduled to be held on Thursday, April 6, 2006 between 2:30 and 4:30 p.m. is now scheduled between 8:35-10:30 a.m. as requested by the NRC staff. The discussion of the item on Draft Final Regulatory Guide on fire protection scheduled to be held on Thursday, between 8:35 and 10 a.m. is now scheduled between 3 and 4:30 p.m. The times for other items scheduled for Thursday, April 6, 2006, previously published in the Federal Register, have been adjusted as noted in the revised agenda to facilitate effective use of the Committee's time. A revised agenda is posted on the NRC Web site at http://www.nrc.gov/reading-rm/adams.html or http://www.nrc.gov/reading-rm/doc-collections/ (ACRS & ACNW Mtg schedules/agendas).

FOR FURTHER INFORMATION CONTACT: Mr. Sam Duraiswamy, ACRS, (Telephone: 301-415-7364), between 7:30 a.m. and 4:15 p.m., ET.

Dated: March 28, 2006.
Andrew L. Bates,
Advisory Committee Management Officer.

[FR Doc. E6-4781 Filed 3-31-06; 8:45 am]

BILLING CODE 7590-01-P